DEPARTMENT OF HOMELAND SECURITY

Coast Guard

33 CFR Part 165

[Docket No. USCG-2024-0905]

Security Zone; Lower Mississippi River, Mile Marker 94 to 97 Above Head of Passes, New Orleans, LA—Gretna Heritage Festival

AGENCY: Coast Guard, DHS.

ACTION: Notification of enforcement of regulation.

SUMMARY: The Coast Guard will enforce a security zone for all navigable waters within 350 yards off the Right Descending Bank (RDB) of the Lower Mississippi River (LMR) Mile Marker (MM) 96.8 to MM 97.5, Above Head of Passes (AHP), New Orleans, LA. This security zone is necessary to provide security and protection for visiting personnel during the events related to the Gretna Heritage Festival. No person or vessel may enter this security zone unless authorized by the Captain of the Port New Orleans (COTP) or a designated representative.

DATES: The regulations in 33 CFR 165.846 will be enforced from 3 p.m. on October 4, 2024 until 10 p.m. on October 6, 2024.

FOR FURTHER INFORMATION CONTACT: If you have questions about this notification of enforcement, call or email Lieutenant Commander Xiaobin Tuo, Sector New Orleans, U.S. Coast Guard; 504-365-2246, email Xiaobin.Tuo@uscg.mil.

SUPPLEMENTARY INFORMATION: The Coast Guard will enforce a security zone in 33 CFR 165.846 for events related to Gretna Heritage Festival from 3 p.m. on October 4, 2024 until 10 p.m. on October 6, 2024. This action is being taken to provide security and protection for visiting personnel during the events related to the Gretna Heritage Festival. The security zone will cover all navigable waters within 350 yards of the Right Descending Bank on the Lower Mississippi River from MM 96.8 to MM 97.5 AHP, New Orleans, LA. No person or vessel may enter this security zone unless authorized by the COTP or a designated representative. A designated representative means any Coast Guard commissioned, warrant, or petty officer of the U.S. Coast Guard assigned to units under the operational control of Sector New Orleans; to include a Federal, State, and/or local officer designated by or assisting the COTP in the enforcement of the security zone. To seek permission to enter, contact the COTP or a designated representative by telephone at (504) 365-2545 or VHF-FM Channel 16 or 67. Those in the security zone must transit at their slowest speed and comply with all lawful orders or directions given to them by the COTP or a designated representative.

In addition to this notification of enforcement in the Federal Register, the Coast Guard will inform the public of the enforcement period of this security zone through Broadcast Notices to Mariners (BNMs).

Dated: October 1, 2024.
G.A. Callaghan,
Captain, U.S. Coast Guard, Captain of the Port Sector New Orleans.

[FR Doc. 2024-23153 Filed 10-4-24; 8:45 am]

BILLING CODE 9110-04-P